DEPARTMENT OF EDUCATION

National Technical Advisory Council; Notice of Establishment and Call for Nominations

AGENCY: Department of Education.

ACTION: Notice of Establishment of the National Technical Advisory Council.

SUMMARY: The Secretary announces her intention to establish the National Technical Advisory Council. The Federal Advisory Committee Act (Pub. L. 92-463 as amended; 5 U.S.C. Appendix 2) (FACA) will govern the Committee.

Purpose: In order to help ensure that the Department is making sound technical decisions related to the approval of State-designed standards, assessments, and accountability systems under Title I of the Elementary and Secondary Education Act, the National Technical Advisory Council (NTAC) shall advise the Secretary of Education and the Assistant Secretary of Elementary and Secondary Education (Assistant Secretary) on the design and implementation of standards, assessments, and accountability systems consistent with Federal statutes and regulations.

The NTAC shall consist of no more than 15 members. The members shall be experts in assessment and accountability and shall consist of academicians, researchers, and national, state, and local policymakers. At least one-third of the members must have experience working in or with State educational agencies or local educational agencies. Members will be appointed by the Secretary to terms of no more than three (3) years, and initial terms shall be staggered.

The Secretary seeks nominations from the public for members to serve on the NTAC. A submission for a nomination for membership on the NTAC must include the nominee's contact information and information regarding the nominee's qualifications, such as a resume, current or recent positions, or research undertaken related to educational assessment and accountability. To submit a nomination, send an e-mail to oese@ed.gov with the subject “NTAC” or respond in writing to Patrick Rooney, U.S. Department of Education, Office of Elementary and Secondary Education, 400 Maryland Avenue, SW., Washington, DC 20202. The period for nominations will close three weeks from the date of this notice.

The Assistant Secretary shall appoint a Designated Federal Officer for the Council. The DFO, in consultation with the NTAC Chair, will set the agenda for the NTAC and schedule meetings on an as-needed basis but at least twice a year. Meetings will be open to the public except as may be determined otherwise by the Secretary. At the request of the Chair, the DFO may create sub-councils consisting of at least three (3) members of the NTAC to provide guidance on an ad-hoc basis to the Assistant Secretary. The sub-councils' recommendations will be reviewed by the full Council before being submitted to the Assistant Secretary.

In lieu of an annual report, following each meeting of the full NTAC or a sub-council of the NTAC, a summary of the proceedings will be prepared by the Department and then reviewed by the Council, and, upon approval of the Council, submitted to the Assistant Secretary. The reports will be made available to the public. The report shall, at a minimum, contain the topics discussed, a summary of the discussion, and recommendations for the Department, including research to be undertaken.

FOR ADDITIONAL INFORMATION CONTACT: Patrick Rooney, U.S. Department of Education, Washington, DC 20202, Telephone: (202) 401-0113.

Dated: March 13, 2008.
Margaret Spellings,
Secretary of Education.

[FR Doc. E8-5485 Filed 3-18-08; 8:45 am]

BILLING CODE 4000-01-P